FEDERAL RETIREMENT THRIFT INVESTMENT BOARD

Notice of Board Meeting

DATES: October 28, 2025, at 10:00 a.m. ET.

ADDRESSES: Telephonic. Dial-in (listen only) information: Number: 1-202-599-1426, Code: 402 943 617#; or via web: https://www.frtib.gov/.

FOR FURTHER INFORMATION CONTACT: James Kaplan, Director, Office of External Affairs, (202) 864-7150.

SUPPLEMENTARY INFORMATION:

Board Meeting Agenda

Open Session

1. Approval of the September 25, 2025, Board Meeting Minutes

2. Monthly Reports

(a) Participant Report

(b) Legislative Report

3. Quarterly Reports

(c) Investment Review

(d) Audit Status

(e) Budget Review

4. Financial Wellness Survey Report

5. Social Science Update

6. OEA Office Presentation

Closed Session

7. Information covered under 5 U.S.C. 552b(c)(6) and (c)(9)(B).

Authority: 5 U.S.C. 552b(e)(1).

Dated: October 14, 2025.
Dharmesh Vashee,
General Counsel, Federal Retirement Thrift Investment Board.

[FR Doc. 2025-19574 Filed 10-16-25; 8:45 am]

BILLING CODE P